DEPARTMENT OF HOMELAND SECURITY

U.S. Citizenship and Immigration Services

[OMB Control Number 1615-0075]

Agency Information Collection Activities; Revision of a Currently Approved Collection: I-864, Affidavit of Support Under Section 213A of the INA; I-864A, Contract Between Sponsor and Household Member; I-864EZ, Affidavit of Support Under Section 213A of the INA

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The purpose of this notice is to allow an additional 30 days for public comments.

DATES: Comments are encouraged and will be accepted until July 5, 2024.

ADDRESSES: Written comments and/or suggestions regarding the item(s) contained in this notice, especially regarding the estimated public burden and associated response time, must be submitted via the Federal eRulemaking Portal website at http://www.regulations.gov under e-Docket ID number USCIS-2007-0029. All submissions received must include the OMB Control Number 1615-0075 in the body of the letter, the agency name and Docket ID USCIS-2007-0029.

FOR FURTHER INFORMATION CONTACT: USCIS, Office of Policy and Strategy, Regulatory Coordination Division, Samantha Deshommes, Chief, telephone number (240) 721-3000 (This is not a toll-free number; comments are not accepted via telephone message.). Please note contact information provided here is solely for questions regarding this notice. It is not for individual case status inquiries. Applicants seeking information about the status of their individual cases can check Case Status Online, available at the USCIS website at http://www.uscis.gov, or call the USCIS Contact Center at 800-375-5283 (TTY 800-767-1833).

SUPPLEMENTARY INFORMATION:

Background

Since 1997, U.S. immigration law has required certain intending immigrants to submit an Affidavit of Support Under Section 213A of the INA (Form I-864 or Form I-864EZ) executed by a sponsor pledging financial support for the intending immigrant to show that they have adequate means of financial support and are not likely to become a public charge. See INA sections 212(a)(4)(C) and (D). The Affidavit of Support Under Section 213A of the INA is a contract between a sponsor and the U.S. government that imposes a legally enforceable obligation on the sponsor to support the sponsored immigrant until the obligation period ends.

Certain noncitizens are required by regulation to affirmatively request an exemption from filing an Affidavit of Support Under Section 213A of the INA. See 8 CFR 213a.2(a)(1)(i)(B). The Request for Exemption for Intending Immigrant's Affidavit of Support (Form I-864W) is the current mechanism used to affirmatively request the exemption.

However, USCIS is discontinuing the use of the Request for Exemption for Intending Immigrant's Affidavit of Support in its adjudications. Instead, a noncitizen who needs to affirmatively request the exemption from USCIS can request it on the form for their immigration benefit request by checking the appropriate box. For example, an adjustment of status applicant who needs to affirmatively request the exemption will do so on their Application to Register Permanent Residence or Adjust Status (Form I-485) and would not need to complete and submit a Request for Exemption for Intending Immigrant's Affidavit of Support.

Comments

The information collection notice was previously published in the Federal Register on October 26, 2023, at 88 FR 73612, allowing for a 60-day public comment period. USCIS did receive three comments in connection with the 60-day notice resulting in clarification updates to the instructions.

You may access the information collection instrument with instructions, or additional information by visiting the Federal eRulemaking Portal site at: http://www.regulations.gov and enter USCIS-2007-0029 in the search box. Comments must be submitted in English, or an English translation must be provided. The comments submitted to USCIS via this method are visible to the Office of Management and Budget and comply with the requirements of 5 CFR 1320.12(c). All submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection Request: Revision of a Currently Approved Collection.

(2) Title of the Form/Collection: Affidavit of Support Under Section 213A of the INA; Contract Between Sponsor and Household Member; Affidavit of Support under Section 213A of the INA.

(3) Agency form number, if any, and the applicable component of the DHS sponsoring the collection: I-864; I-864A, I-864EZ; USCIS.

(4) Affected public who will be asked or required to respond, as well as a brief abstract: Primary: Individuals or households. USCIS uses the data collected on Form I-864 to determine whether the sponsor has the ability to support the sponsored immigrant under section 213A of the Immigration and Nationality Act. This form standardizes evaluation of a sponsor's ability to support the sponsored immigrant and ensures that basic information required to assess eligibility is provided by sponsors.

Form I-864A is a contract between the sponsor and the sponsor's household members. It is only required if the sponsor used income of their household members to reach the required 125 percent of the Federal poverty guidelines. The contract holds these household members jointly and severally liable for the support of the sponsored immigrant. The information collection required on Form I-864A is necessary for public benefit agencies to enforce the Affidavit of Support in the event the sponsor used income of their household members to reach the required income level and the public benefit agencies are requesting reimbursement from the sponsor.

USCIS uses Form I-864EZ in exactly the same way as Form I-864; however, USCIS collects less information from the sponsors as less information is needed from those who qualify in order to make a thorough adjudication.

(5) An estimate of the total number of respondents and the amount of time estimated for an average respondent to respond: The estimated total number of respondents for the information collection I-864 is 453,345 and the estimated hour burden per response is 5.81 hours; the estimated total number of respondents for the information collection I-864A is 215,800 and the estimated hour burden per response is 1.5 hours; the estimated total number of respondents for the information collection I-864EZ is 100,000 and the estimated hour burden per response is 2.25 hours.

(6) An estimate of the total public burden (in hours) associated with the collection: The total estimated annual hour burden associated with this collection is 3,128,684 hours.

(7) An estimate of the total public burden (in cost) associated with the collection: The estimated total annual cost burden associated with this collection of information is $135,569,525.

Dated: May 13, 2024.
Samantha L. Deshommes,
Chief, Regulatory Coordination Division, Office of Policy and Strategy, U.S. Citizenship and Immigration Services, Department of Homeland Security.

[FR Doc. 2024-12297 Filed 6-4-24; 8:45 am]

BILLING CODE 9111-97-P